INTERNATIONAL TRADE COMMISSION

[Investigation No. 337-TA-636]

In the Matter of Certain Laser Imageable Lithographic Printing Plates; Notice of Commission Decision Not to Review an Initial Determination Granting Complainant's Motion To Amend the Complaint and Notice of Investigation to Add a Respondent

AGENCY: U.S. International Trade Commission.

ACTION: Notice.

SUMMARY: Notice is hereby given that the U.S. International Trade Commission has determined not to review an initial determination (“ID”) (Order No. 7) issued by the presiding administrative law judge (“ALJ”) granting a motion by complainant Presstek, Inc. (“Presstek”) to amend the complaint and notice of investigation to add Spicers Paper, Inc. (“Spicers”) as a respondent in the above-captioned investigation.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on March 7, 2008, based on a complaint filed by Presstek, Inc. of Hudson, NH. The complaint alleged violations of section 337 of the Tariff Act of 1930 (19 U.S.C. 1337) in the importation into the United States, the sale for importation, and the sale within the United States after importation of certain laser imageable lithographic printing plates that infringe certain claims of U.S. Patent Nos. 5,339,737 and 5,487,338 and U.S. Trademark Reg. No. 1,711,005.

On April 23, 2008, Presstek filed a motion to amend the complaint and notice of investigation to add Spicers as a respondent. Respondents VIM Technologies, Ltd.; AteCe Canada; Guaranteed Service & Supplies, Inc.; and Recognition Systems, Inc. filed a response opposing the motion. The Commission investigative attorney filed a response in support of the motion. The ALJ issued the subject ID granting Presstek's motion on June 26, 2008. No petitions for review were filed. The Commission has determined not to review the subject ID.

The authority for the Commission's determination is contained in section 337 of the Tariff Act of 1930, as amended (19 U.S.C. 1337), and in sections 210.14 and 210.42 of the Commission's Rules of Practice and Procedure (19 CFR 210.14, 210.42).

By order of the Commission.
Issued: July 21, 2008.
Marilyn R. Abbott,
Secretary to the Commission.

[FR Doc. E8-17096 Filed 7-24-08; 8:45 am]

BILLING CODE 7020-02-P